DEPARTMENT OF ENERGY

Federal Energy Regulatory Commission

[Docket No. RP99-274-008]

Kern River Gas Transmission Company; Notice of Revised 2002 Annual Threshold Report

June 30, 2003).

Take notice that on June 25, 2003, Kern River Gas Transmission Company (Kern River) tendered for filing its Revised 2002 Annual Threshold Report.

Kern River states that the purpose of this filing is to comply with the provisions of its general rate settlement in Docket No. RP99-274 and the Commission's December 26, 2002 order in Docket No. RP99-274-007.

Kern River states that it is revising its 2002 Annual Threshold Report to share fifty percent of $1.33 million in additional revenues received by Kern River due to the settlement of an adversarial claim in a bankruptcy proceeding.

Kern River states that it has served a copy of this filing upon each person designated on the official service list compiled by the Secretary in this proceeding.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 7, 2003.

Magalie R. Salas,
Secretary.

[FR Doc. 03-17154 Filed 7-7-03; 8:45 am]

BILLING CODE 6717-01-P